DEPARTMENT OF TRANSPORTATION

Federal Aviation Administration

Intent To Prepare an Environmental Impact Statement and Hold Scoping Meetings for Sacramento International Airport, Sacramento, CA

AGENCY: Federal Aviation Administration.

ACTION: Notice to hold one (1) public scoping meeting and one (1) Governmental/Public agency scoping meeting.

SUMMARY: The Federal Aviation Administration (FAA) is issuing this notice to advise the public that a joint Environmental Impact Statement/Environmental Impact Report (EIS/EIR) will be prepared for proposed development included in the Sacramento County Airport Systems (SCAS) Master Plan (Master Plan) for Sacramento International Airport (SMF), Sacramento, California. To ensure that all significant issues related to the proposed action are identified, one (1) public scoping meeting and one (1) governmental and public agency scoping meeting will be held.

FOR FURTHER INFORMATION CONTACT: Camille Garibaldi, Environmental Protection Specialist, SFO-613, Planning and Programming Section, Federal Aviation Administration, Western-Pacific Region, San Francisco Airports District Office, 831 Mitten Road, Suite 210, Burlingame, California 94010-1303, telephone: (650) 876-2778 ext. 613; fax: (650) 876-2733. Comments on the scope of the EIS should be submitted to the address or fax above and must be received no later than 5 p.m. Pacific daylight time, Friday, September 23, 2005.

SUPPLEMENTARY INFORMATION: Sacramento International Airport (SMF) is a commercial service airport located within a metropolitan area in the northwest corner of Sacramento County and is operated by SCAS. SMF currently has two parallel 8,600 feet long and 150 feet wide runways oriented in a north/south direction. In February of 2004, the Sacramento County Board of Supervisors recommended the SMF Master Plan for environmental review. The SMF Master Plan includes proposed improvements to be implemented at the airport in two phases. SCAS subsequently submitted a revised airport layout plan (ALP), reflecting the proposed first phase of development to the Federal Aviation Administration (FAA) for approval.

A joint EIS/EIR will be developed by FAA and SCAS that identifies and analyzes the potential significance of impacts of the proposed improvements in accordance with federal and state law. As the lead federal agency, FAA will prepare an Environmental Impact Statement for first phase projects included in the ALP. The need to prepare an EIS is based on the procedures described in section 501 of FAA Order 1050.1E, Environmental Impacts: Policies and Procedures and FAA Order 5050.4A, Airport Environmental Handbook. The federal actions that cause the FAA to prepare an EIS are the approval for the ALP depicting the proposed development and the further processing of an application for federal funding or passenger facility charges to finance the proposed projects by Sacramento County. In making this decision, the FAA based the need for an EIS on its preliminary review of possible noise, wetland and endangered species impacts the proposed action could cause.

In addition, the County of Sacramento, Department of Environmental Review and Assessment (DERA), as the lead state agency, will prepare an Environmental Impact Report (EIR) for both phases of the recommended Master Plan improvements, pursuant to the California Environmental Quality Act of 1970 (CEQA).

The proposed Phase I projects include:

Airfield Improvements

• Extension of Runway 16L34R from 8,600 feet wide to 11,000 feet long by 159 feet wide.

• Establishment of a new Instrument Landing System (ILS) for Runway 34R and relocation of the ILS for Runway 16L.

• Construction of a new south crossfield Taxiway Y.

• Construction of Air Cargo Improvements and Terminal Apron.

• Airport Traffic Control Tower Relocation.

• Construction of a new Passenger Terminal Apron.

Land Side and Airport Support Improvements

• New Passenger Terminal.

• On-airport and access road improvements.

• Construction of passenger facilities such as a Hotel, Parking Garage, and Rental Car facilities.

• Construction of maintenance facility improvements, such as a new General Services Building and Equipment Maintenance Building.

Land Acquisition

• Acquire 707 acres for approach protection and future airport growth.

Alternatives: The alternatives being considered in the EIS/EIR include the No-Action Alternative; the Proposed Action Alternative; various physical configurations of proposed improvements, such as the extension of Runway 16R/34L rather than 16L/34R; and use of other existing airports.

During scoping, FAA and SCAS will seek comments and input from Federal, State and local agencies, and other interested parties to ensure the EIS/EIR addresses a full range of issues related to the proposed projects and alternatives. Written comments and suggestions concerning the scope of the EIS may be mailed or faxed to the FAA contact listed above and must be received no later than 5 p.m. Pacific daylight time, Friday, September 23, 2005.

Public Scoping Meeting: The FAA will hold one (1) public and one (1) governmental agency scoping meeting to solicit input from the public and various Federal, State, and local agencies having jurisdiction by law or having specific expertise with respect to any environmental impacts associated with the proposed projects. the public scoping meeting will be held on Thursday, September 8, 2005, at Public Television station KVIE's OSE Community Room, 2595 Capital Oaks Drive, Sacramento, California 95833. The meeting will be held from 5 p.m. to 7 p.m. Pacific daylight time (P.d.t.). A scoping meeting will be held specifically for governmental and public agencies on Thursday, September 8, 2005, from 2 p.m. to 4 p.m. P.d.t. in the same location as the public scoping meeting.

Issued in Hawthorne, California on July 28, 2005.
Mark A. McClardy,
Manager, Airports Division, Western-Pacific Region, AWP-600.

[FR Doc. 05-15650 Filed 8-8-05; 8:45 am]

BILLING CODE 4910-13-M